COMMISSION ON CIVIL RIGHTS

Sunshine Act Notice

AGENCY: United States Commission on Civil Rights.

ACTION: Notice of meeting.

DATE AND TIME: Friday, September 9, 2011; 9:30 a.m. EDT.

PLACE: 624 Ninth Street, NW., Room 540, Washington, DC 20425.

Meeting Agenda

This meeting is open to the public.

I. Approval of Agenda.

II. Approval of the August 12, 2011 Meeting Minutes.

III. Program Planning:

• Approval of Age Discrimination briefing report.

• Approval of the 2012 Enforcement Report Project Outline and Discovery Plan.

IV. Management and Operations:

• Staff Director's report.

• Discussion of the 2013 Budget.

• Discussion of the use of Commissioner Letterhead.

• Discussion of the 2012 Meeting Calendar.

V. State Advisory Committee Issues:

• Re-chartering the California SAC.

• Re-chartering the Georgia SAC.

VI. Adjourn.

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Kimberly A. Tolhurst,
Senior Attorney-Advisor.

[FR Doc. 2011-22425 Filed 8-29-11; 4:15 pm]

BILLING CODE 6335-01-P